DEPARTMENT OF JUSTICE

Notice of Lodging of Proposed Consent Decree Under the Clean Air Act and the Resource Conservation and Recovery Act

On December 12, 2018, the Department of Justice lodged a proposed consent decree with the United States District Court for the District of Connecticut in the lawsuit entitled United States v. Tradebe Treatment and Recycling Northeast, LLC, Civil Action No. 3:18-cv-02031. In a complaint, the United States, on behalf of the U.S. Environmental Protection Agency, alleges that Tradebe Treatment and Recycling Northeast, LLC violated the Clean Air Act, 42 U.S.C. 7401, et seq., for failure to comply with EPA regulations for off-site waste and recovery operations, 40 CFR part 63, subpart DD, at its facilities located in Bridgeport and Meriden, Connecticut. The Complaint also alleges a number of violations at the facilities for failure to comply with permits issued under the Resource Conservation and Recovery Act, 42 U.S.C. 6901, et seq., and its underlying regulations at 40 CFR part 264, subparts AA, BB and CC. The proposed consent decree, among other things, requires that Tradebe maintain full compliance with its RCRA permits at the facilities and with applicable hazardous waste regulations, including RCRA air emissions regulations. Both facilities will install new air emission control systems to permanently replace their current control systems, and will adopt additional emission reduction measures for a two year period. Tradebe will also pay a $525,000 settlement penalty.

The publication of this notice opens a period for public comment on the proposed Consent Decree. Comments should be addressed to the Assistant Attorney General, Environment and Natural Resources Division, and should refer to United States v. Tradebe Treatment and Recycling, LLC, D.J. Ref. No. 90-5-2-1-11838. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.25 (25 cents per page reproduction cost), payable to the United States Treasury.

Robert Maher,
Assistant Chief, Environmental Enforcement Section, Environment & Natural Resources Division.

[FR Doc. 2018-27300 Filed 12-17-18; 8:45 am]

BILLING CODE 4410-15-P